DEPARTMENT OF COMMERCE

National Oceanic and Atmospheric Administration

50 CFR Part 660

[Docket No. 150316270-5270-01]

RIN 0648-XE187

Fisheries Off West Coast States; Modifications of the West Coast Commercial and Recreational Salmon Fisheries; Inseason Actions #30 Through #36

AGENCY: National Marine Fisheries Service (NMFS), National Oceanic and Atmospheric Administration (NOAA), Commerce.

ACTION: Modification of fishing seasons; request for comments.

SUMMARY: NMFS announces seven inseason actions in the ocean salmon fisheries. These inseason actions modified the commercial and recreational salmon fisheries in the area from the U.S./Canada border to Cape Falcon, OR.

DATES: The effective dates for the inseason actions are set out in this document under the heading Inseason Actions. Comments will be accepted through October 13, 2015.

ADDRESSES: You may submit comments, identified by NOAA-NMFS-2015-0001, by any one of the following methods:

• Electronic Submissions: Submit all electronic public comments via the Federal eRulemaking Portal. Go to www.regulations.gov/#!docketDetail;D=NOAA-NMFS-2015-0001, click the “Comment Now!” icon, complete the required fields, and enter or attach your comments.

• Mail: William W. Stelle, Jr., Regional Administrator, West Coast Region, NMFS, 7600 Sand Point Way NE., Seattle WA 98115-6349.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peggy Mundy at 206-526-4323.

SUPPLEMENTARY INFORMATION:

Background

In the 2015 annual management measures for ocean salmon fisheries (80 FR 25611, May 5, 2015), NMFS announced the commercial and recreational fisheries in the area from the U.S./Canada border to the U.S./Mexico border, beginning May 1, 2015, and 2016 salmon fisheries opening earlier than May 1, 2016. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: Oregon Department of Fish and Wildlife (ODFW) and Washington Department of Fish and Wildlife (WDFW).

Management of the salmon fisheries is generally divided into two geographic areas: north of Cape Falcon (U.S./Canada border to Cape Falcon, OR) and south of Cape Falcon (Cape Falcon, OR, to the U.S./Mexico border). The inseason actions reported in this document affect fisheries north of Cape Falcon. The north of Cape Falcon area is further subdivided into four management subareas: Neah Bay Subarea (U.S./Canada border to Cape Alava, WA), La Push Subarea (Cape Alava, WA, to Queets River, WA), Westport Subarea (Queets River, WA, to Leadbetter Point, WA), and Columbia River Subarea (Leadbetter Point, WA, to Cape Falcon, OR). All times mentioned refer to Pacific daylight time.

Inseason Actions

Inseason Action #30

Description of action: Inseason action #30 reduced the landing and possession limit for Chinook salmon in the commercial salmon fishery north of Cape Falcon from 40 to 35 Chinook salmon per vessel per open period. This action superseded inseason action #29 (80 FR 53015, September 2, 2015).

Effective dates: Inseason action #30 took effect on August 28, 2015, and remained in effect until superseded by inseason action #34 on September 4, 2015.

Reason and authorization for the action: The Regional Administrator (RA) considered fishery effort and Chinook salmon landings to date, and determined that reducing the landing and possession limit at this time was necessary to maintain the season schedule set preseason, while allowing access to remaining Chinook salmon quota without exceeding the quota. Inseason action to modify quotas and/or fishing seasons is authorized by 50 CFR 660.409(b)(1)(i).

Consultation date and participants: Consultation on inseason action #30 occurred on August 27, 2015. Participants in this consultation were staff from NMFS, Council, WDFW, and ODFW.

Inseason Action #31

Description of action: Inseason action #31 modified the daily bag limit in the recreational salmon fishery in the Columbia River Subarea to allow retention of two Chinook salmon per day; previously only one Chinook salmon could be retained.

Effective dates: Inseason action #31 took effect on August 29, 2015, and remains in effect until the end of the recreational salmon fishing season, or until superseded by further inseason action.

Reason and authorization for the action: The RA considered fishery effort and Chinook salmon landings to date and determined that the subarea guideline had sufficient Chinook salmon available to increase the daily bag limit at this time without exceeding the guideline. Inseason action to modify recreational bag limits is authorized by 50 CFR 660.409(b)(1)(iii).

Consultation date and participants: Consultation on inseason action #31 occurred on August 27, 2015. Participants in this consultation were staff from NMFS, Council, WDFW, and ODFW.

Inseason Action #32

Description of action: Inseason action #32 adjusted the remaining coho quota in the recreational salmon fishery north of Cape Falcon, on an impact-neutral basis by subarea, from mark-selective to non-mark-selective. The adjusted non-mark-selective coho quotas by management subarea, as of the effective date, are:

• Neah Bay Subarea: 4,100

• La Push Subarea: 625

• Westport Subarea: 13,000

• Columbia River Subarea: 15,300

Effective dates: Inseason action #32 took effect on September 4, 2015, and remains in effect until the end of the 2015 recreational salmon fishery.

Reason and authorization for the action: The annual management measures (80 FR 25611, May 5, 2015) provide for inseason action to modify the regulations that restrict retention of unmarked coho. To accommodate modifying the regulations from a mark-selective to non-mark-selective coho fishery while still achieving management objectives, including not exceeding allowable impacts on constraining stocks, the Council's Salmon Technical Team (STT) calculated the necessary adjustments to the coho quota on an impact-neutral basis for the constraining stocks for each subarea. For the Neah Bay Subarea, impacts to the Thompson River (Canada) coho stock were most constraining. For the LaPush Subarea, impacts to Thompson River (Canada) and Queets River coho stocks were most constraining. For the Westport Subarea, impacts to Queets River coho were most constraining. For the Columbia River Subarea, impacts to Columbia River natural coho were most constraining. The RA approved the STT's impact-neutral conversion of the remaining recreational mark-selective coho quota to non-mark-selective coho quota. Modification of quotas and/or fishing seasons is authorized by 50 CFR 660.409(b)(1)(i).

Consultation date and participants: Consultation on inseason action #32 occurred on September 2, 2015. Participants in this consultation were staff from NMFS, Council, WDFW, and ODFW.

Inseason Action #33

Description of action: Inseason action #33 modified daily bag limits in the recreational salmon fishery north of Cape Falcon to allow retention of unmarked coho salmon.

Effective dates: Inseason action #33 took effect on September 4, 2015, and remains in effect until the end of the recreational salmon fishing season, or until superseded by further inseason action. The portion of this action that applies to the Neah Bay Subarea was superseded by inseason action #35 on September 11, 2015.

Reason and authorization for the action: The annual management measures (80 FR 25611, May 5, 2015) provide for inseason action to modify the regulations that restrict retention of unmarked coho. The RA considered fishery effort, coho catch to date, and the non-mark-selective quota conversions implemented under inseason action #32, and determined that modifying the fishery to allow retention of unmarked coho could be implemented within the allowable impacts on the constraining stocks and without exceeding the non-mark-selective coho quota. Inseason action to modify limited retention regulations is authorized by 50 CFR 660.409(b)(1)(i).

Consultation date and participants: Consultation on inseason action #33 occurred on September 2, 2015. Participants in this consultation were staff from NMFS, Council, WDFW, and ODFW.

Inseason Action #34

Description of action: Inseason action #34 increased the landing and possession limit for Chinook salmon in the commercial salmon fishery north of Cape Falcon from 35 to 40 Chinook salmon per vessel per open period. This action superseded inseason action #30.

Effective dates: Inseason action #34 took effect on September 4, 2015, and remains in effect until the end of the 2015 commercial salmon fishery, or until superseded by further inseason action.

Reason and authorization for the action: The RA considered fishery effort and Chinook salmon landings to date, both of which decreased substantially since the implementation of inseason action #30, largely due to unfavorable weather conditions. The RA determined that increasing the landing and possession limit would allow access to remaining Chinook quota without exceeding the quota. Modification of quotas and/or fishing seasons is authorized by 50 CFR 660.409(b)(1)(i).

Consultation date and participants: Consultation on inseason action #34 occurred on September 2, 2015. Participants in this consultation were staff from NMFS, Council, WDFW, and ODFW.

Inseason Action #35

Description of action: Inseason action #35 reinstated the prohibition on retaining unmarked coho in the recreational salmon fishery in the Neah Bay Subarea. This action superseded that portion of inseason action #33 that applied to the Neah Bay Subarea.

Effective dates: Inseason action #35 took effect on September 11, 2015, and remains in effect through the end of the 2015 recreational salmon fishery, or until superseded by further inseason action.

Reason and authorization for the action: The RA considered effort and coho landings to date, both of which increased dramatically in the Neah Bay Subarea after the implementation of inseason action #33. The RA determined that it was necessary to reinstate mark-selective coho regulations to avoid exceeding the coho quota in the Neah Bay Subarea. Inseason action to modify limited retention regulations is authorized by 50 CFR 660.409(b)(1)(i).

Consultation date and participants: Consultation on inseason action #35 occurred on September 9, 2015. Participants in this consultation were staff from NMFS, Council, WDFW, and ODFW.

Inseason Action #36

Description of action: Inseason action #36 implemented an impact-neutral quota trade between the commercial and recreational salmon fisheries north of Cape Falcon. The first part of the trade transferred 3,000 mark-selective coho quota from the commercial fishery to the recreational fishery, which resulted in an addition of 1,700 mark-selective coho recreational quota added to the Neah Bay Subarea on an impact-neutral basis. The second part of the trade transferred 1,500 Chinook salmon from the recreational guidelines of the Westport and Columbia River Subareas, which resulted in an addition of 1,000 Chinook quota added to the commercial fishery south of Queets River.

Effective dates: Inseason action #36 took effect on September 11, 2015, and remains in effect until the end of the 2015 commercial and recreational salmon fisheries, or until modified by further inseason action.

Reason and authorization for the action: The annual management measures (80 FR 25611, May 5, 2015) provide for quota transfers between the recreational and commercial salmon fisheries north of Cape Falcon if there is agreement among the areas' representatives on the Salmon Advisory Subpanel (SAS), and if the transfer would not result in exceeding the preseason impact expectations on any salmon stocks. The RA considered landings and effort to date and the recommendations of the SAS, and took this action to sustain fisheries while remaining within overall quotas and impacts to coho and Chinook salmon stocks. Inseason action to modify quotas and/or fishing seasons is authorized by 50 CFR 660.409(b)(1)(i).

Consultation date and participants: Consultation on inseason action #36 occurred on September 9, 2015. Participants in this consultation were staff from NMFS, Council, WDFW, and ODFW.

All other restrictions and regulations remain in effect as announced for the 2015 ocean salmon fisheries and 2016 salmon fisheries opening prior to May 1, 2016 (80 FR 25611, May 5, 2015) and as modified by prior inseason actions.

The RA determined that the best available information indicated that coho and Chinook salmon catch to date and fishery effort supported the above inseason actions recommended by the states of Washington and Oregon. The states manage the fisheries in state waters adjacent to the areas of the U.S. exclusive economic zone in accordance with these Federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (80 FR 25611, May 5, 2015), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon catch and effort assessments and projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: September 22, 2015.
Emily H. Menashes,
Acting Director, Office of Sustainable Fisheries, National Marine Fisheries Service.

[FR Doc. 2015-24442 Filed 9-24-15; 8:45 am]

BILLING CODE 3510-22-P